DEPARTMENT OF THE INTERIOR

Bureau of Land Management

[LLOR936000-L14300000-ET0000; HAG-11-0271; OROR-9651]

Public Land Order No. 7778; Extension of Public Land Order No. 6876; Oregon

AGENCY: Bureau of Land Management, Interior.

ACTION: Public Land Order.

SUMMARY: This order extends the duration of the withdrawal created by Public Land Order No. 6876 for an additional 20-year period. The extension is necessary to continue protection of the unique natural and ecological values of the Ashland Research Natural Area (RNA), and the recreational values and the investment of Federal funds at the Jackson Campground Extension and the Kanaka Campground, which would otherwise expire on September 9, 2011.

DATES: Effective Date: September 10, 2011.

FOR FURTHER INFORMATION CONTACT: Charles R. Roy, Bureau of Land Management, Oregon/Washington State Office, 503-808-6189, or Dianne Torpin, United States Forest Service, Pacific Northwest Region, 503-808-2422. Persons who use a telecommunications device for the deaf (TDD) may call the Federal Information Relay Service (FIRS) at 1-800-877-8339 to reach the Bureau of Land Management or Forest Service contact during normal business hours. The FIRS is available 24 hours a day, 7 days a week, to leave a message or question with either of the above individuals. You will receive a reply during normal business hours.

SUPPLEMENTARY INFORMATION: The purpose for which the withdrawal was first made requires this extension in order to continue protection of the unique natural and ecological values of the Ashland RNA, the recreational values, and the investment of Federal funds at the Jackson Campground Extension and the Kanaka Campground. The withdrawal extended by this order will expire on September 9, 2031, unless, as a result of a review conducted prior to the expiration date pursuant to Section 204(f) of the Federal Land Policy and Management Act of 1976, 43 U.S.C. 1714(f), the Secretary determines that the withdrawal shall be further extended.

Order

By virtue of the authority vested in the Secretary of the Interior by Section 204 of the Federal Land Policy and Management Act of 1976, 43 U.S.C. 1714, it is ordered as follows:

Public Land Order No. 6876 (56 FR 46122 (1991)), which withdrew approximately 1,853.66 acres of National Forest System lands from location and entry under the United States mining laws (30 U.S.C. Ch. 2), but not from leasing under the mineral leasing laws, to protect the Ashland RNA, the recreational values, and investment of Federal funds at the Jackson Campground Extension and the Kanaka Campground, is hereby extended for an additional 20-year period until September 9, 2031.

Authority: 43 CFR 2310.4.

Dated: September 2, 2011.
Rhea S. Suh,
Assistant Secretary—Policy, Management and Budget.

[FR Doc. 2011-24707 Filed 9-26-11; 8:45 am]

BILLING CODE 4310-10-P